DEPARTMENT OF JUSTICE

Drug Enforcement Administration

21 CFR Part 1308

[Docket No. DEA-368]

Definition of “Cannabimimetic Agents” and Assignment of an Administration Controlled Substances Code Number for All “Cannabimimetic Agents”

AGENCY: Drug Enforcement Administration, Department of Justice.

ACTION: Final rule.

SUMMARY: The Drug Enforcement Administration is publishing this final rule to amend its regulations related to “cannabimimetic agents” by including the term's definition, identifying 18 additional substances that meet the definition, and consolidating most existing administration controlled substances code numbers (drug codes) into a single drug code number for substances that meet this definition. The listing for two schedule I “cannabimimetic agents” that are under international control, JWH-018 and AM2201, are moved to the “hallucinogens” paragraph of schedule I but retain their existing drug codes to facilitate quota and international reporting requirements. While this final rule does not change the current and continuing schedule I status for the 18 additional substances meeting the definition of “cannabimimetic agents,” these and other substances meeting this definition will be assigned a new administration controlled substances code number once this final rule becomes effective.

DATES: This final rule is effective February 19, 2026.

FOR FURTHER INFORMATION CONTACT: Terrence L. Boos, Ph.D., Drug & Chemical Evaluation Section, Diversion Control Division, Drug Enforcement Administration; Telephone: (571) 362-3249.

SUPPLEMENTARY INFORMATION:

Background and Legal Authority

On July 9, 2012, the Synthetic Drug Abuse Prevention Act of 2012 (SDAPA), Public Law 112-144, Title XI, Subtitle D, became effective. SDAPA amended the Controlled Substances Act (CSA) by legislatively placing “cannabimimetic agents” in schedule I.¹ On January 4, 2013, the Drug Enforcement Administration (DEA) published a final rule in the Federal Register that added paragraph (g) to 21 CFR 1308.11 with the title “cannabimimetic agents,” and assigned unique administration controlled substances code numbers (drug codes) for 15 substances included in SDAPA that met this definition.²

¹ Public Law 112-144, Title XI, Subtitle D, Section 1152; 21 U.S.C. 812(d).

² Establishment of Drug Codes for 26 Substances, 78 FR 664 (Jan. 4, 2013).

DEA later published a notice of proposed rulemaking (NPRM) on April 13, 2023, proposing to make technical, organizational, and conforming amendments to 21 CFR 1308.11(g).³ This rulemaking finalizes that NPRM by doing the following: (i) incorporating the structural and pharmacological definition of “cannabimimetic agents” found in 21 U.S.C. 812(d) into 21 CFR 1308.11(g); (ii) listing 18 additional substances that meet the structural and pharmacological definition of “cannabimimetic agents” in 21 CFR 1308.11(g); (iii) consolidating 13 of the 15 existing drug codes previously assigned to “cannabimimetic agents” and establishing a single drug code for most substances that meet this definition; and (iv) moving two substances (JWH-018 and AM2201) from paragraph 21 CFR 1308.11(g) to 21 CFR 1308.11(d) but retaining their existing drug codes (7118 and 7201, respectively) to facilitate quota and international reporting requirements.

³ Definition of “Cannabimimetic Agents” and Assignment of an Administration Controlled Substances Code Number for All “Cannabimimetic Agents,” 88 FR 22388 (Apr. 13, 2023).

The 18 additional substances that meet the structural and pharmacological definition in accordance with SDAPA are: AM-1220; AM-2233; EAM-2201; JWH-098; JWH-184; JWH-193; JWH-210; MAM-2201; JWH-007; JWH-022; JWH-147; JWH-302; JWH-307; JWH-412; WIN 55,212-2; CP-55,940; CP-47,497 C6 homolog; and CP-47,497 C9 homolog.

Further, the two substances that were originally listed in 21 CFR 1308.11(g)—JWH-018 and AM2201—are also listed in Schedule II of the Convention on Psychotropic Substances of 1971 (1971 Convention), Feb. 21, 1971, 32 U.S.T. 543, 1019 U.N.T.S. 175, as amended.⁴ To facilitate reporting as required under Article 16 the 1971 Convention, this final rule moves the listing for these two substances from 21 CFR 1308.11(g) to 21 CFR 1308.11(d), as discussed above. Because this final rule assigns all substances in 21 CFR 1308.11(g) a single drug code, these two substances are moved to maintain their existing drug codes and allow DEA to continue collecting data that is then reported to the International Narcotics Control Board (INCB) on Form P.⁵

⁴ On March 13, 2015, the Commission on Narcotic Drugs decided to include JWH-018 and AM2201 in Schedule II of the Convention on Psychotropic Substances of 1971.

⁵ The current form can be downloaded from the INCB website: www.incb.org, under “Psychotropic Substances”, Toolkit: “Form P”.

Comments Received

As part of the NPRM published on April 13, 2023, DEA solicited comments on the proposed changes. In response to the NPRM, DEA received one comment seeking clarity regarding the movement of JWH-018 and AM2201 from 21 CFR 1308.11(g) to 21 CFR 1308.11(d).

Comment: The one commenter stated that since JWH-018 and AM2201 will be moved to 21 CFR 1308.11(d), it should be made clear whether the positional isomers of these two substances would be controlled by definition as schedule I controlled substances.

DEA Response: The introductory text to 21 CFR 1308.11(d) provides that a listed substance includes “any of its salts, isomers, and salts of isomers whenever the existence of such salts, isomers, and salts of isomers is possible within the specific chemical designation,” and that the term “isomer” includes the optical, position[al], and geometric isomers.⁶ The introductory text to 21 CFR 1308.11(g) includes similar language, but without mention of positional isomers. Upon the effective date of this final rule, JWH-018 and AM2201 will be listed in 21 CFR 1308.11(d), and, therefore, any positional isomers of JWH-018 and AM2201 will be defined as schedule I controlled substances.

⁶ The term “positional isomer” is found at 21 CFR 1300.01(b), which cross-references the term “positional isomer” in 21 CFR 1308.11(d).

Regulatory Analyses

Executive Orders 12866, 13563, 14192, and 14294

This regulation has been drafted and reviewed in accordance with the principles of Executive Orders (E.O.) 12866, 13563, 14192 and 14294. This rule is not a significant regulatory action under section 3(f) of E.O. 12866. All of the substances listed in this final rule are already listed or defined as controlled substances in the United States under schedule I. In this final rule, DEA makes technical, organizational, and conforming amendments to its regulations to incorporate definitions found in 21 U.S.C. 812(d), list additional “cannabimimetic agents” that meet these definitions, and simplify drug codes assigned to “cannabimimetic agents.” These changes only apply to substances that are already listed or defined as schedule I controlled substances. Creating listings for these substances and modifying drug codes does not alter the status of any of these substances as schedule I controlled substances. DEA scheduling actions are not subject to either E.O. 14192, Unleashing Prosperity Through Deregulation, or E.O. 14294, Fighting Overcriminalization in Federal Regulations.

Executive Order 12988, Civil Justice Reform

This regulation meets the applicable standards set forth in sections 3(a) and 3(b)(2) of E.O. 12988, to eliminate drafting errors and ambiguity, minimize litigation, provide a clear legal standard for affected conduct, and promote simplification and burden reduction.

Executive Order 13132, Federalism

This rulemaking does not have federalism implications warranting the application of E.O. 13132. The rule does not have substantial direct effects on the states, on the relationship between the National government and the states, or the distribution of power and responsibilities among the various levels of government.

Executive Order 13175, Consultation and Coordination With Indian Tribal Governments

This rule does not have tribal implications warranting the application of E.O. 13175. It does not have substantial direct effects on one or more Indian tribes, on the relationship between the Federal government and Indian tribes, or on the distribution of power and responsibilities between the Federal government and Indian tribes.

Paperwork Reduction Act of 1995

This action does not impose a new collection of information requirement under the Paperwork Reduction Act of 1995.⁷ This action would not impose recordkeeping or reporting requirements on State or local governments, individuals, businesses, or organizations. An agency may not conduct or sponsor, and a person is not required to respond to a collection of information unless it displays a currently valid OMB control number.

⁷ 44 U.S.C. 3501-3521.

Regulatory Flexibility Act

The Administrator, in accordance with the Regulatory Flexibility Act (5 U.S.C. 601-612), has reviewed this rule, and by approving it, certifies that it will not have a significant economic impact on a substantial number of small entities.

DEA is making technical, organizational, and conforming amendments to its regulations to incorporate definitions found in 21 U.S.C. 812(d), list additional “cannabimimetic agents” that meet these definitions, and simplify drug codes assigned to “cannabimimetic agents.” These changes only apply to substances that are already listed or defined as schedule I controlled substances. This action does not impose any new regulatory controls or new administrative, civil, and/or criminal sanctions applicable to schedule I controlled substances on persons who handle (manufacture, distribute, reverse distribute, import, export, engage in research, conduct instructional activities or chemical analysis with, or possess), or propose to handle “cannabimimetic agents.”

All handlers of “cannabimimetic agents” must already be registered with DEA and have all security and other handling processes in place. Therefore, DEA estimates the cost of this rule on any affected small entity is minimal. Based on these factors, DEA projects that this rule will not result in a significant economic impact on a substantial number of small entities.

Unfunded Mandates Reform Act of 1995

In accordance with the Unfunded Mandates Reform Act (UMRA) of 1995,2 U.S.C. 1501 et seq., DEA has determined and certifies that this action would not result in any Federal mandate that may result “in the expenditure by State, local, and tribal governments, in the aggregate, or by the private sector, of $100,000,000 or more (adjusted annually for inflation) in any 1 year . . . .” Therefore, neither a Small Government Agency Plan nor any other action is required under UMRA of 1995.

Congressional Review Act

This rule is not a major rule as defined by the Congressional Review Act (CRA), 5 U.S.C. 804. However, pursuant to the CRA, DEA is submitting a copy of this rule to both Houses of Congress and to the Comptroller General.

List of Subjects in 21 CFR Part 1308

Administrative practice and procedure, Drug traffic control, Reporting and recordkeeping requirements.

For the reasons set out above, DEA amends 21 CFR part 1308 as follows:

PART 1308—SCHEDULES OF CONTROLLED SUBSTANCES

1. The authority citation for part 1308 continues to read as follows:

Authority: 21 U.S.C. 811, 812, 871(b), 956(b), unless otherwise noted.

2. In § 1308.11:

a. Add paragraphs (d)(107) and (108);

b. Revise paragraphs (g) introductory text and (g)(1);

c. Remove and reserve paragraph (g)(2); and

d. Remove paragraphs (g)(3) through (g)(15).

The additions and revisions read as follows:

§ 1308.11 Schedule I.

* * * * *

(d) * * *

* * * * * * *
(107) 1-pentyl-3-(1-naphthoyl)indole (JWH-018 and AM678) | 7118
(108) 1-(5-fluoropentyl)-3-(1-naphthoyl)indole (AM2201) | 7201
* * * * * * *

* * * * *

(g) Cannabimimetic agents. Unless specifically exempted or unless listed in another schedule, any material, compound, mixture, or preparation which contains any quantity of cannabimimetic agents, or which contains their salts, isomers, and salts of isomers whenever the existence of such salts, isomers, and salts of isomers is possible within the specific chemical designation:

(1) Cannabimimetic agents | 7000
(i) In this paragraph (g), cannabimimetic agent means any substance that is a cannabinoid receptor type 1 (CB1 receptor) agonist as demonstrated by binding studies and functional assays within any of the following structural classes:
(A) 2-(3-hydroxycyclohexyl)phenol with substitution at the 5-position of the phenolic ring by alkyl or alkenyl, whether or not substituted on the cyclohexyl ring to any extent.
(B) 3-(1-naphthoyl)indole or 3-(1-naphthylmethane)indole by substitution at the nitrogen atom of the indole ring, whether or not further substituted on the indole ring to any extent, whether or not substituted on the naphthoyl or naphthyl ring to any extent.
(C) 3-(1-naphthoyl)pyrrole by substitution at the nitrogen atom of the pyrrole ring, whether or not further substituted in the pyrrole ring to any extent, whether or not substituted on the naphthoyl ring to any extent.
(D) 1-(1-naphthylmethylene)indene by substitution of the 3-position of the indene ring, whether or not further substituted in the indene ring to any extent, whether or not substituted on the naphthyl ring to any extent.
(E) 3-phenylacetylindole or 3-benzoylindole by substitution at the nitrogen atom of the indole ring, whether or not further substituted in the indole ring to any extent, whether or not substituted on the phenyl ring to any extent.
(ii) The definition of cannabimimetic agent in this paragraph (g) includes, but is not limited to, the following substances:
(A) 5-(1,1-dimethylheptyl)-2-[(1R,3S)-3-hydroxycyclohexyl]-phenol (CP-47,497);
(B) 5-(1,1-dimethyloctyl)-2-[(1R,3S)-3-hydroxycyclohexyl]-phenol (cannabicyclohexanol or CP-47,497 C8-homolog);
(C) 1-butyl-3-(1-naphthoyl)indole (JWH-073);
(D) 1-hexyl-3-(1-naphthoyl)indole (JWH-019);
(E) 1-[2-(4-morpholinyl)ethyl]-3-(1-naphthoyl)indole (JWH-200);
(F) 1-pentyl-3-(2-methoxyphenylacetyl)indole (JWH-250);
(G) 1-pentyl-3-[1-(4-methoxynaphthoyl)]indole (JWH-081);
(H) 1-pentyl-3-(4-methyl-1-naphthoyl)indole (JWH-122);
(I) 1-pentyl-3-(4-chloro-1-naphthoyl)indole (JWH-398);
(J) 1-(5-fluoropentyl)-3-(2-iodobenzoyl)indole (AM694);
(K) 1-pentyl-3-[(4-methoxy)-benzoyl]indole (SR-19 and RCS-4);
(L) 1-cyclohexylethyl-3-(2-methoxyphenylacetyl)indole (SR-18 and RCS-8);
(M) 1-pentyl-3-(2-chlorophenylacetyl)indole (JWH-203);
(N) (1-((1-methylpiperidin-2-yl)methyl)-1H-indol-3-yl)(naphthalen-1-yl)methanone (AM-1220);
(O) (2-iodophenyl)(1-((1-methylpiperidin-2-yl)methyl)-1H-indol-3-yl)methanone (AM-2233);
(P) (4-ethylnaphthalen-1-yl)(1-(5-fluoropentyl)-1H-indol-3-yl)methanone (EAM-2201);
(Q) (4-methoxynaphthalen-1-yl)(2-methyl-1-pentyl-1H-indol-3-yl)methanone (JWH-098);
(R) 3-((4-methylnaphthalen-1-yl)methyl)-1-pentyl-1H-indole (JWH-184);
(S) (4-methylnaphthalen-1-yl)(1-(2-morpholinoethyl)-1H-indol-3-yl)methanone (JWH-193);
(T) (4-ethylnaphthalen-1-yl)(1-pentyl-1H-indol-3-yl)methanone (JWH-210);
(U) (1-(5-fluoropentyl)-1H-indol-3-yl)(4-methylnaphthalen-1-yl)methanone (MAM-2201);
(V) (2-methyl-1-pentyl-1H-indol-3-yl)(naphthalen-1-yl)methanone (JWH-007);
(W) naphthalen-1-yl(1-(pent-4-en-1-yl)-1H-indol-3-yl)methanone (JWH-022);
(X) (1-hexyl-5-phenyl-1H-pyrrol-3-yl)(naphthalen-1-yl)methanone (JWH-147);
(Y) 2-(3-methoxyphenyl)-1-(1-pentyl-1H-indol-3-yl)ethan-1-one (JWH-302);
(Z) (5-(2-fluorophenyl)-1-pentyl-1H-pyrrol-3-yl)(naphthalen-1-yl)methanone (JWH-307);
(AA) (4-fluoronaphthalen-1-yl)(1-pentyl-1H-indol-3-yl)methanone (JWH-412);
(BB) (5-methyl-3-(morpholinomethyl)-2,3-dihydro-[1,4]oxazino[2,3,4-hi]indol-6-yl)(naphthalen-1-yl)methanone (WIN 55,212-2);
(CC) 2-(5-hydroxy-2-(3-hydroxypropyl)cyclohexyl)-5-(2-methyloctan-2-yl)phenol (CP-55,940);
(DD) 2-(3-hydroxycyclohexyl)-5-(2-methylheptan-2-yl)phenol (CP-47,497 C6 homolog); and
(EE) 2-(3-hydroxycyclohexyl)-5-(2-methyldecan-2-yl)phenol (CP-47,497 C9 homolog).
(2) [Reserved]

* * * * *

Signing Authority

This document of the Drug Enforcement Administration was signed on January 13, 2026, by Administrator Terrance C. Cole. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2026-00907 Filed 1-16-26; 8:45 am]

BILLING CODE 4410-09-P